DEPARTMENT OF ENERGY

Federal Energy Regulatory Commission

Notice of Application Tendered for Filing With the Commission and Soliciting Additional Study Requests

July 30, 2004.

Take notice that the following hydroelectric application has been filed with the Commission and is available for public inspection.

a. Type of Application: Major license.

b. Project No.: 11945-001.

c. Date Filed: June 30, 2004.

d. Applicant: Symbiotics, LLC.

e. Name of Project: Dorena Lake Dam Project.

f. Location: On the Row River, near the Town of Cottage Grove, Lane County, Oregon. The project would occupy less than 1 acre of Federal lands administered by the U.S. Army Corps of Engineers.

g. Filed Pursuant to: Federal Power Act, 16 U.S.C. 791 (a)-825(r).

h. Applicant Contact: Brent L. Smith, Northwest Power Services, Inc., P.O. Box 535, Rigby, Idaho 83442, (208) 745-0834.

i. FERC Contact: Dianne Rodman, (202) 502-6077, dianne.rodman@ferc.gov.

j. Cooperating agencies: We are asking Federal, State, local, and tribal agencies with jurisdiction and/or special expertise with respect to environmental issues to cooperate with us in the preparation of the environmental document. Agencies who would like to request cooperating status should follow the instructions for filing comments described in item l below.

k. Pursuant to § 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for filing additional study requests and requests for cooperating agency status: August 30, 2004.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

m. The application is not ready for environmental analysis at this time.

n. The proposed project would utilize the U.S. Army Corps of Engineers' existing Dorena Lake dam and reservoir, and would consist of the following facilities: (1) A 9-foot-diameter steel pipe, about 350 feet long, extending from the reservoir through the north dam abutment; (2) a new powerhouse, near the existing spillway stilling basin 250 feet downstream from the concrete section of the dam, having a total installed capacity of 8,300 kilowatts; (3) a new concrete-lined channel discharging flows into the river channel immediately below the existing stilling basin; (4) a new valve house near the existing stilling basin; (5) a new 15-kilovolt underground transmission line, about 500 feet long; and (6) appurtenant facilities. The average annual generation is estimated to be 17.5 gigawatthours.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Oregon State Historic Preservation Officer (SHPO), as required by section 106, National Historic Preservation Act, and the regulations of the Advisory Council on Historic Preservation, 36 CFR 800.4.

q. Procedural schedule: The application will be processed according to the following Hydro Licensing Schedule. Revisions to the schedule will be made as appropriate.

Issue Acceptance or Deficiency Letter: August 2004.

Request Additional Information: August 2004.

Issue Acceptance Letter: December 2004.

Issue Scoping Document 1 for comments: January 2005.

Request Additional Information (if necessary): March 2005.

Issue Scoping Document 2: March 2005.

Notice of application is ready for environmental analysis: March 2005.

Notice of the availability of the draft EA: September 2005.

Initiate 10(j) Process: November 2005.

Notice of the availability of the final EA: March 2006.

Ready for Commission's decision on the application: June 2006.

Magalie R. Salas,
Secretary.

[FR Doc. E4-1732 Filed 8-5-04; 8:45 am]

BILLING CODE 6717-01-P